DEPARTMENT OF ENERGY

Federal Energy Regulatory Commission

Combined Notice of Filings #1

Take notice that the Commission received the following Complaints and Compliance filings in EL Dockets:

Docket Numbers: EL22-33-000; QF90-73-013.

Applicants: EF KENILWORTH, INC., EF Kenilworth LLC.

Description: EF Kenilworth LLC submits Request for Waiver of the Efficiency Standard for A Topping-Cycle Cogeneration Facility.

Filed Date: 2/24/22.

Accession Number: 20220224-5202.

Comment Date: 5 p.m. ET 3/17/22.

Docket Numbers: EL22-34-000.

Applicants: Office of the Ohio Consumers' Counsel, v. American Electric Power Service Corporation, American Transmission Systems, Inc. and Duke Energy Ohio, LLC.

Description: Office of the Ohio Consumers' Counsel, v. American Electric Power Service Corporation, American Transmission Systems, Inc. and Duke Energy Ohio, LLC.

Filed Date: 2/24/22.

Accession Number: 20220224-5221.

Comment Date: 5 p.m. ET 3/16/22.

Take notice that the Commission received the following electric rate filings:

Docket Numbers: ER20-2594-002.

Applicants: Vermont Transco LLC.

Description: Compliance filing: Filing to Revise Effective Date for Order No. 864 to be effective 1/27/2020.

Filed Date: 2/25/22.

Accession Number: 20220225-5123.

Comment Date: 5 p.m. ET 3/18/22.

Docket Numbers: ER22-648-001.

Applicants: Tri-State Generation and Transmission Association, Inc.

Description: Tariff Amendment: Response to Deficiency Letter for Amendment to RS 259 to be effective 12/16/2021.

Filed Date: 2/24/22.

Accession Number: 20220224-5151.

Comment Date: 5 p.m. ET 3/17/22.

Docket Numbers: ER22-847-001.

Applicants: PJM Interconnection, L.L.C.

Description: Tariff Amendment: Amendment of ISA SA No. 6312, Queue No. AE2-297 in Docket No. ER22-847 to be effective 12/21/2021.

Filed Date: 2/24/22.

Accession Number: 20220224-5139.

Comment Date: 5 p.m. ET 3/17/22.

Docket Numbers: ER22-1111-000.

Applicants: ITC Midwest LLC.

Description: § 205(d) Rate Filing: Filing of Amended and Restated Construction Agreement with Northeast Missouri to be effective 4/26/2022.

Filed Date: 2/25/22.

Accession Number: 20220225-5000.

Comment Date: 5 p.m. ET 3/18/22.

Docket Numbers: ER22-1112-000.

Applicants: Public Service Company of New Mexico.

Description: § 205(d) Rate Filing: Service Agreement Nos. 598-601 to be effective 1/31/2022.

Filed Date: 2/25/22.

Accession Number: 20220225-5059.

Comment Date: 5 p.m. ET 3/18/22.

Docket Numbers: ER22-1113-000.

Applicants: Midcontinent Independent System Operator, Inc., Union Electric Company.

Description: § 205(d) Rate Filing: Midcontinent Independent System Operator, Inc. submits tariff filing per 35.13(a)(2)(iii: 2022-02-25_Ameren Missouri Attachment O-AMO Depreciation Rates to be effective 3/1/2022.

Filed Date: 2/25/22.

Accession Number: 20220225-5072.

Comment Date: 5 p.m. ET 3/18/22.

Docket Numbers: ER22-1114-000.

Applicants: Public Service Company of New Mexico.

Description: § 205(d) Rate Filing: Modifications to Rate Schedule No. 144 to be effective 3/1/2022.

Filed Date: 2/25/22.

Accession Number: 20220225-5076.

Comment Date: 5 p.m. ET 3/7/22.

Docket Numbers: ER22-1115-000.

Applicants: ISO New England Inc., Versant Power.

Description: § 205(d) Rate Filing: ISO New England Inc. submits tariff filing per 35.13(a)(2)(iii: Versant Power; Revisions to Schedule 21-EM to Reflect Name Change to be effective 1/1/2022.

Filed Date: 2/25/22.

Accession Number: 20220225-5080.

Comment Date: 5 p.m. ET 3/18/22.

Docket Numbers: ER22-1116-000.

Applicants: Duke Energy Florida, LLC.

Description: § 205(d) Rate Filing: DEF-Seminole Revised Rate Schedule No. 226 to be effective 6/1/2022.

Filed Date: 2/25/22.

Accession Number: 20220225-5085.

Comment Date: 5 p.m. ET 3/18/22.

Docket Numbers:ER22-1117-000.

Applicants:Southern California Edison Company.

Description:§ 205(d) Rate Filing: 2022 Depreciation Update to be effective 1/1/2021.

Filed Date: 2/25/22.

Accession Number: 20220225-5086.

Comment Date: 5 p.m. ET 3/18/22.

Docket Numbers: ER22-1118-000.

Applicants: Midcontinent Independent System Operator, Inc.

Description: § 205(d) Rate Filing: 2022-02-25_SA 2985 MidAmerican-MidAmerican 3rd Rev GIA (J499 J1008) to be effective 2/18/2022.

Filed Date: 2/25/22.

Accession Number: 20220225-5097.

Comment Date: 5 p.m. ET 3/18/22.

Docket Numbers: ER22-1119-000.

Applicants: New York Independent System Operator, Inc., Niagara Mohawk Power Corporation.

Description: § 205(d) Rate Filing: New York Independent System Operator, Inc. submits tariff filing per 35.13(a)(2)(iii: Joint 205: EPC Agreement among NYISO, NMPC, NextEra (SA 2688) to be effective 2/18/2022.

Filed Date: 2/25/22.

Accession Number: 20220225-5107.

Comment Date: 5 p.m. ET 3/18/22.

Docket Numbers: ER22-1120-000.

Applicants: Tri-State Generation and Transmission Association, Inc.

Description: Tariff Amendment: Notice of Cancellation of Service Agreement FERC No. 609 to be effective 2/17/2022.

Filed Date: 2/25/22.

Accession Number: 20220225-5116.

Comment Date: 5 p.m. ET 3/18/22.

Docket Numbers: ER22-1121-000.

Applicants: VETCO.

Description: § 205(d) Rate Filing: Conforming Tariff Filing of VETCO to be effective 1/1/2021.

Filed Date: 2/25/22.

Accession Number: 20220225-5122.

Comment Date: 5 p.m. ET 3/18/22.

Docket Numbers: ER22-1122-000.

Applicants: PJM Interconnection, L.L.C.

Description: § 205(d) Rate Filing: Original WMPA, Service Agreement No. 6374; Queue No. AG1-360 to be effective 1/26/2022.

Filed Date: 2/25/22.

Accession Number: 20220225-5163.

Comment Date: 5 p.m. ET 3/18/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2022.
Debbie-Anne A. Reese,
Deputy Secretary.

[FR Doc. 2022-04522 Filed 3-3-22; 8:45 am]

BILLING CODE 6717-01-P